DEPARTMENT OF HOMELAND SECURITY

Regulation on Agency Protests

AGENCY: Office of Chief Procurement Officer, Acquisition Policy and Legislation Office, DHS.

ACTION: Submission for OMB review; comment request.

SUMMARY: The Department of Homeland Security, Office of the Chief Procurement Officer, Acquisition Policy and Legislation Office, has submitted the following information collection request (ICR) to the Office of Management and Budget (OMB) for review and clearance in accordance with the Paperwork Reduction Act of 1995 (Pub. L. 104-13, 44 U.S.C. Chapter 35). The Office of the Chief Procurement Officer is soliciting comments concerning a renewal to an existing collection, Regulation on Agency Protests.

DATES: Comments are encouraged and will be accepted until October 22, 2007. This process is conducted in accordance with 5 CFR 1320.1.

ADDRESSES: Comments and questions about this Information Collection Request should be forwarded to the Acquisition Policy and Legislation Office, Attn: Kathy Strouss for the Department of Homeland Security, Office of the Chief Procurement Officer, Room 3114, Washington, DC 20528.

FOR FURTHER INFORMATION CONTACT: Kathy Strouss, 202-447-5300 (this is not a toll free number).

SUPPLEMENTARY INFORMATION: The Department of Homeland Security (DHS), Office of the Chief Procurement Officer requires a renewal of an existing OMB Control number for the regulation on agency protests. This notice provides a request for comments on the renewal of the presently designated OMB Control Number 1600-0004, granted in September 2004. The information is requested from contractors so that the Government will be able to evaluate protests effectively and provide prompt resolution of issues in dispute when contractors file agency level protests.

The Office of Management and Budget is particularly interested in comments regarding the following:

1. Whether the collection of information is necessary for the proper performance of the function of the agency, including whether the information shall have practical utility;

2. The accuracy of the agency's information collection burden estimate;

3. Ways to enhance the quality, utility, and clarity of the information to be collected;

4. Ways to minimize the burden of the collection of information on respondents; and

5. Estimates of capital or start-up costs and costs of operation, maintenance, and purchase of services to provide information.

Analysis

Agency: Department of Homeland Security, Office of the Chief Procurement Officer, Acquisition Policy and Legislation Office.

Title: Regulation on Agency Protests.

OMB Number: 1600-0004.

Frequency: One-time collection.

Affected Public: Businesses and individuals seeking and who are currently contracting with the DHS.

Estimated Number of Respondents: 50.

Estimated Time Per Respondent: 2 hours.

Total Burden Hours: 100 hrs.

Scott Charbo,
Chief Information Officer.

[FR Doc. E7-16643 Filed 8-22-07; 8:45 am]

BILLING CODE 4410-10-P